ENVIRONMENTAL PROTECTION AGENCY

[ER-FRL-9053-8]

Environmental Impact Statements; Notice of Availability

Responsible Agency: Office of Federal Activities, General Information 202-564-5632 or https://www.epa.gov/nepa.

Weekly receipt of Environmental Impact Statements (EIS)

Filed November 2, 2020 10 a.m. EST Through November 9, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200221, Final, NRCS, WA, ADOPTION—Skokomish River Ecosystem Restoration, Review Period Ends: 12/14/2020, Contact: Karen Fullen 503-273-2404.

The Natural Resource Conservation Service (NRCS) has adopted the U.S. Army Corps of Engineer's Final EIS No. 20150267, filed 09/16/2015 with the Environmental Protection Agency. The NRCS was not a cooperating agency on this project. Therefore, republication of the document is necessary under Section 1506.3(b)(1) of the CEQ regulations.

EIS No. 20200222, Final, USFWS, BLM, UT, Northern Corridor—Highway Right-of-way, Issuance of an Incidental Take Permit, Final EIS and Proposed Resource Management Plan Amendments, Review Period Ends: 12/14/2020, Contact: Gloria Tibbetts 435-865-3063.

EIS No. 20200223, Draft, NRC, NM, Disposal of Mine Waste at the United Nuclear Corporation Mill Site in McKinley County, New Mexico, Comment Period Ends: 12/28/2020, Contact: Ashley Waldron 301-415-7317.

EIS No. 20200224, Second Final Supplemental, USACE, MS, Final Supplement II (SEIS II) to the Final Environmental Impact Statement, Mississippi River and Tributaries (MR&T) Project, Mississippi River Mainline Levees and Channel Improvement of 1976 (1976 EIS), as updated and supplemented by Supplement No. 1, Mississippi River and Tributaries Project, Mississippi River Mainline Levee Enlargement and Seepage Control of 1998 (1998 SEIS), Review Period Ends: 12/14/2020, Contact: Mike Thron 901-544-0708.

Dated: November 9, 2020.
Cindy S. Barger,
Director, NEPA Compliance Division, Office of Federal Activities.

[FR Doc. 2020-25203 Filed 11-12-20; 8:45 am]

BILLING CODE 6560-50-P